DEPARTMENT OF ENERGY

Federal Energy Regulatory Commission

[Docket No. CP11-551-000]

Transcontinental Gas Pipe Line Company, LLC; Notice of Application

Take notice that on September 29, 2011, Transcontinental Gas Pipe Line Company, LLC (Transco), P.O. Box 1396, Houston, Texas 77251-1396, filed in Docket No. CP11-551-000 an application pursuant to Section 7(b) and 7(c) of the Natural Gas Act (NGA) and Part 157 of the Commission's regulations for permission and approval to abandon Caverns 1, 2, 3, and 4 and the associated storage deliverability and capacity at the Eminence Storage Field (Eminence) in Covington County, Mississippi, all as more fully set forth in the application, which is on file with the Commission and open to public inspection. This filing may also be viewed on the web at http://www.ferc.gov using the “eLibrary” link. Enter the docket number excluding the last three digits in the docket number field to access the document. For assistance, contact FERC at FERCOnlineSupport@ferc.gov or call toll-free, (886) 208-3676 or TYY, (202) 502-8659.

Transco states that it has experienced structural integrity problems with four of its seven caverns at Eminence. On December 26, 2010, a large, unexpected pressure drop occurred in Cavern 3. Subsequently, Transco experienced problems with Caverns 1 and 2 and began to reduce the pressure in those caverns by withdrawing gas. Cavern 4 has been out of service since 2004 due to collapsed casing which is not connected to the December incident. Transco seeks permission and approval to abandon Caverns 1, 2, 3, and 4, and reduce deliverability and capacity from 20.5 Bcf to 15.025 Bcf in Caverns 5, 6, and 7. Transco also seeks to partially abandon the total storage capacity and deliverability quantities Transco provides to its customers under Rate Schedules ESS and EESWS. Transco further seeks to reduce the total capacity and deliverability quantities available to Transco for system flexibility. Contingent upon receiving approval of its request from the Commission, Transco and its Rate Schedules ESS and EESWS customers would amend their applicable service agreements to reflect their revised Storage Capacity Quantity and the Storage Demand Capacity. Transco states that it intends to reflect the rate impact of the reduction in at the Eminence Storage Field's deliverability and capacity, as well as any costs incurred thus far, in Transco's next section 4 general rate case which will be filed no later than August 31, 2012. Transco estimates that it has already expended $76,000,000 as part of its emergency response to the events at Eminence.

Any questions regarding this application should be directed to Ingrid Germany, Staff Regulatory Analyst, Transcontinental Gas Pipe Line Company, P.O. Box 1396, Houston, Texas 77251-1396, at (713) 215-4015.

Pursuant to section 157.9 of the Commission's regulations, 18 CFR 157.9, within 90 days of this Notice, the Commission's staff will either complete its environmental assessment (EA) and place it into the Commission's public record (eLibrary) for this proceeding; or issue a Notice of Schedule for Environmental Review. If a Notice of Schedule for Environmental Review is issued, it will indicate, among other milestones, the anticipated date for the Commission's staff issuance of the EA for this proposal. The filing of the EA in the Commission's public record for this proceeding or the issuance of a Notice of Schedule for Environmental Review will serve to notify federal and state agencies of the timing for the completion of all necessary reviews, and the subsequent need to reach a final decision on a request for federal authorization within 90 days of the date of issuance of the Commission staff's EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426. See, 18 CFR 385.2001(a)(1)(iii) and the instructions on the Commission's Web site under the “e-Filing” link.

Comment Date: October 27, 2011.

Dated: October 6, 2011.
Kimberly D. Bose,
Secretary.

[FR Doc. 2011-26573 Filed 10-13-11; 8:45 am]

BILLING CODE 6717-01-P